DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Study of Factors Influencing Consumer Choices Among Health Plans and Clinicians.” In accordance with the Paperwork Reduction Act of 1995, Public Law 104-13 (44 U.S.C. 3506(c)(2)(A)), AHRQ invites the public to comment on this proposed information collection.

DATES: Comments on this notice must be received by November 3, 2008.

ADDRESSES: Written comments should be submitted to: Doris Lefkowitz, Reports Clearance Officer, AHRQ, by email at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“Study of Factors Influencing Consumer Choices Among Health Plans and Clinicians”

This study will use an experimental design to determine factors that influence consumer understanding and use of performance information to select among health plans and clinicians. Performance reports on health plans and individual providers have become increasingly available in recent years, but there is little evidence regarding how consumers understand and use different types of performance information to make choices.

The study will include two parallel experiments, one designed to assess factors influencing choice of health plans and one designed to assess factors influencing choice of individual doctors. Both experiments will present a panel of online consumers with a simulated Web-based performance report. Study subjects will answer a series of pre-test questions, and then be directed to a Web site with a simulated report (for either health plans or doctors) where they will view various types of performance information, go through the process of selecting either a health plan or a doctor, and then complete the experiment by answering a series of post-test questions about how they made their selection.

The categories of performance information to be included in the Web reports will be derived from patient experience survey results using Consumer Assessment of Healthcare Providers and Systems (CAHPS) composite measures, clinical process measures, personal anecdotes based on patient or enrollee experiences, and the frequency of different types of enrollee complaints or grievances (in the plan experiment only).

The results of this study will be used to develop recommendations for helping consumers to better understand and more effectively use complex information to select health plans and providers, with the aim of making performance information less burdensome and more accessible, useful, and transparent to the public. The simulated Web-based reports will be made available as examples for other report developers to use. This study is being conducted pursuant to AHRQ's statutory mandate to promote health care quality improvement by conducting and supporting research that develops and presents scientific evidence regarding all aspects of health care, 42 U.S.C. 299(b)(1), and to conduct research on health care and on systems for the delivery of such health care, 42 U.S.C. 299a.

Method of Collection

Participants in this study will be recruited through the Knowledge Networks national online panel of consumers. For both the health plan and clinician choice experiments, study subjects will be randomly assigned to one of several arms (described below) that vary according to the type and complexity of performance information and the size of the choice set (number of plans or doctors) included in the Web report. Participants will complete the experiment through a secure online connection from their homes.

Clinician Choice Experimental Design

In each of the six arms, study participants will see a web page labeled “Performance Overview” that presents performance information for a set of primary care doctors in a way that allows them to compare doctor ratings. Performance is summarized by assigning one to five stars to show how each doctor compares with others in the same zip code area. Participants can click on hyperlinks or a tab to see more detailed results. The experimental arms differ in the type and amount of performance information presented and the number of doctors listed, as described below:

(1) Baseline/Control Arm: participants see only “Patient Survey Results” for each of 12 doctors in this arm. This includes a summary measure on the Performance Overview page and more detailed measures corresponding to CAHPS composites and an overall doctor rating on the drill-down page.

(2) Experimental Arm #1: Augmented Quantified Performance Measures: In this arm participants will also see “Patient Survey Results” on 12 doctors. In addition, they will see a summary clinical performance measure labeled “Medical Quality Scores.” The drill-down page shows that this is based on clinical indicators for prevention and screening, care for asthma, care for diabetes, and care for heart disease.

(3) Experimental Arm #2: CAHPS plus Anecdotes: In this arm, participants will again be presented with “Patient Survey Results” on 12 doctors. In addition, for each doctor, they will see a tab labeled “Patient Comments.” By clicking on this tab, they can see from four to six patient comments describing patients' experiences with each doctor. Participants in this arm will not see clinical performance scores.

(4) Experimental Arm #3: Augmented Quantified Performance Measures Plus Anecdotes: In this arm participants will be presented with all three types of information on 12 doctors: “Patient Survey Results,” “Medical Quality Scores”, and “Patient Comments.”

(5) Experimental Arm #4: CAHPS plus Anecdotes and Larger Choice Set: In this arm participants will be presented with “Patient Survey Results” and “Patient Comments” on 24 doctors.

(6) Experimental Arm #5: Maximum Cognitive Load: Large Choice Set and Three Measures of Performance: In this arm, participants are presented with all three types of information on 24 doctors: “Patient Survey Results,” “Medical Quality Scores,” and “Patient Comments.”

The goals of the experiment are to assess the process of consumer choice and the extent to which CAHPS-type measures are consulted, and to examine how consumers respond to different types of information about doctor quality, including quantitative patient experience measures, anecdotal reports from individual patients, and clinical performance indicators. The post-test questionnaire will elicit participants' understanding and impressions of the material they saw on the Web site and inquire about how they made their choice. Therefore, the post-test questions will differ somewhat across experimental arms.

Health Plan Choice Experimental Design

The design of the health plan choice experiment has a comparable architecture to the clinician-choice experiment, but makes choices more challenging by adding more dimensions of performance measures within a smaller choice set. (These distinctions between informed clinician choice and informed plan choice replicate the information currently available to consumers over the internet.) In each of the six arms, study participants will see a web page labeled “Performance Overview” that presents performance information for a set of health plans in a way that allows them to compare plan ratings. Performance is summarized by assigning one to five stars to show how each plan compares with others in the same community. Participants can click on hyperlinks or a tab to see more detailed results. The experimental arms differ in the type and amount of performance information presented and the number of plans listed, as described below:

(1) Baseline/Control Arm: participants see only “Patient Survey Results” for each of 4 plans in this arm. This includes a summary measure on the Performance Overview page and more detailed measures corresponding to CAHPS composites and an overall plan ratings on the drill-down page.

(2) Experimental Arm #1: Augmented Quantified Performance Measures: In this arm participants will also see “Patient Survey Results” on four plans. In addition, they will see two summary clinical performance measures labeled “Health Care Quality Scores,” which will consist of selected Health Care Effectiveness Data and Information Set (HEDIS) measures, one for preventive care, and one for the treatment of chronic conditions. The drill-down page for prevention will show preventive care scores of regular physical exams, and screening for three common medical conditions. The drill down page for treatment will include summary measures for heart problems, asthma, diabetes, and arthritis. A summary score for the reported rate of consumer complaints will also be included, with a drill down reporting rating for the four most common causes of complaints, with the categories based on actual data from three states.

(3) Experimental Arm #2: CAHPS plus Anecdotes: In this arm, participants will again be presented with “Patient Survey Results” on four plans. In addition, for each plan, they will see a tab labeled “Patient Comments.” By clicking on this tab, they can see from four to six patient comments describing patients' experiences with each plan. Participants in this arm will not see quality performance or rates of patient complaints scores.

(4) Experimental Arm #3: Augmented Quantified Performance Measures Plus Anecdotes: In this arm participants will be presented with all four types of information for four plans: “Patient Survey Results,” “Health Care Quality Scores”, “Patient Complaint Rates” and “Patient Comments.”

(5) Experimental Arm #4: CAHPS plus Anecdotes and Larger Choice Set: In this arm participants will be presented with “Patient Survey Results” and “Patient Comments” on 12 plans.

(6) Experimental Arm #5: Maximum Cognitive Load: Large Choice Set and Five Measures of Performance: In this arm, participants are presented with all three types of information: “Patient Survey Results,” “Health Care Quality Scores” (both prevention and treatment), “Patient Complaint Rates” and “Patient Comments” on 12 plans.

The goal of these experiments is to assess the process of consumer choice and the extent to which CAHPS-type measures are consulted, and to examine how consumers respond to different types of information about plan performance, including quantitative patient experience measures, anecdotal reports from individual patients, frequency of consumer complaints, and clinical performance indicators. The post-test questionnaire will elicit participants' understanding and impressions of the material they saw on the Web site and inquire about how they made their choice. Therefore, the post-test questions will differ somewhat across experimental arms.

Estimated Annual Respondent Burden

Exhibit 1 shows the estimated annualized burden hours for the respondents' time to participate in this experiment. This experiment will not exceed one year. All participants will complete the pre-test which is estimated to require 5 minutes. As explained above, the experimental Web site varies by experimental arm, however, each participant is expected to require about 10 minutes to review the information on the site. The baseline/control post-test will be completed by 170 participants and will require about 7 minutes to complete. Both the experimental arm #1 and #2 post-test will be completed by 166 participants each and will take about 8 minutes. Both the experimental arm #3 and #4 post-test will be completed by 166 participants each and will require about 12 minutes to complete. The experimental arm #6 post-test will be completed by 166 participants and will require about 14 minutes to complete. The total burden hours are estimated to be 838 hours.

Exhibit 2 shows the respondents' cost burden for their time to participate in this experiment. The total cost burden is estimated to be $16,142.

Exhibit 1—Estimated Annualized Burden Hours
Experimental group | Number of responses | Number of responses per respondent | Hours per response | Total burden hours
Clinician Choice Experiment:
Pretest | 1,000 | 1 | 5/60 | 83
Experimental Web site | 1,000 | 1 | 10/60 | 167
Baseline/Control Post-test | 170 | 1 | 7/60 | 20
Experimental Arm #1 Post-test | 166 | 1 | 8/60 | 22
Experimental Arm #2 Post-test | 166 | 1 | 8/60 | 22
Experimental Arm #3 Post-test | 166 | 1 | 12/60 | 33
Experimental Arm #4 Post-test | 166 | 1 | 12/60 | 33
Experimental Arm #5 Post-test | 166 | 1 | 14/60 | 39
Health Plan Choice Experiment:
Pretest | 1,000 | 1 | 5/60 | 83
Experimental Web site | 1,000 | 1 | 10/60 | 167
Baseline/Control Post-test | 170 | 1 | 7/60 | 20
Experimental Arm #1 Post-test | 166 | 1 | 8/60 | 22
Experimental Arm #2 Post-test | 166 | 1 | 8/60 | 22
Experimental Arm #3 Post-test | 166 | 1 | 12/60 | 33
Experimental Arm #4 Post-test | 166 | 1 | 12/60 | 33
Experimental Arm #5 Post-test | 166 | 1 | 14/60 | 39
Total | 6,000 | na | na | 838

Exhibit 2—Estimated Annualized Cost Burden
Experimental group | Number of responses | Total burden hours | Average hourly wage rate* | Total cost burden
Clinician Choice Experiment:
Pretest | 1,000 | 83 | $19.26 | $1,599
Experimental Web site | 1,000 | 167 | 19.26 | 3,216
Baseline/Control Post-test | 170 | 20 | 19.26 | 385
Experimental Arm #1 Post-test | 166 | 22 | 19.26 | 424
Experimental Arm #2 Post-test | 166 | 22 | 19.26 | 424
Experimental Arm #3 Post-test | 166 | 33 | 19.26 | 636
Experimental Arm #4 Post-test | 166 | 33 | 19.26 | 636
Experimental Arm #5 Post-test | 166 | 39 | 19.26 | 751
Health Plan Choice Experiment:
Pretest | 1,000 | 83 | 19.26 | 1,599
Experimental Web site | 1,000 | 167 | 19.26 | 3,216
Baseline/Control Post-test | 170 | 20 | 19.26 | 385
Experimental Arm #1 Post-test | 166 | 22 | 19.26 | 424
Experimental Arm #2 Post-test | 166 | 22 | 19.26 | 424
Experimental Arm #3 Post-test | 166 | 33 | 19.26 | 636
Experimental Arm #4 Post-test | 166 | 33 | 19.26 | 636
Experimental Arm #5 Post-test | 166 | 39 | 19.26 | 751
Total | 6,000 | 838 | na | 16,142
*Based upon the mean of the average wages, National Compensation Survey: Occupational wages in the United States 2006, “U.S. Department of Labor, Bureau of Labor Statistics.”

Estimated Annual Costs to the Federal Government

The total cost to the Federal Government for developing and conducting both the health plan and clinician choice components of this study is $844,000, including the cost of designing the experiments, developing the simulated Web-based reports, conducting usability testing of the Web-reports, pilot testing the experiment, collecting the data, analyzing the data, preparing reports and papers for journal submission, and the cost for AHRQ staff to oversee the project; see Exhibit 3. The annualized cost for this two year project is $422,000.

Exhibit 3—Project Cost Components
Cost components | Cost estimate
Experimental design | $168,900
Development of simulated Web-based reports | 157,900
Pilot testing | 56,000
Usability testing of Web-based reports | 56,300
Data collection via Knowledge Networks | 126,000
Data analysis | 56,300
Preparation of reports and journal papers | 112,600
AHRQ project management | 110,000
Total | 844,000

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: August 26, 2008.
Carolyn M. Clancy,
Director.

[FR Doc. E8-20315 Filed 9-2-08; 8:45 am]

BILLING CODE 4160-90-M